DEPARTMENT OF COMMERCE

National Oceanic and Atmospheric Administration

[RTID 0648-XA644]

Endangered and Threatened Species; Initiation of a 5-Year Review of Staghorn Coral, Elkhorn Coral, Pillar Coral, Rough Cactus Coral, Lobed Star Coral, Mountainous Star Coral, and Boulder Star Coral

AGENCY: National Marine Fisheries Service (NMFS), National Oceanic and Atmospheric Administration (NOAA), Commerce.

ACTION: Notice of initiation of 5-Year Review; request for information.

SUMMARY: NMFS announces a 5-year review of staghorn coral (Acropora cervicornis), elkhorn coral (Acropora palmata), pillar coral (Dendrogyra cylindrus), rough cactus coral (Mycetophyllia ferox), lobed star coral (Orbicella annularis), mountainous star coral (Orbicella faveolata), and boulder star coral (Orbicella franksi) under the Endangered Species Act of 1973 (ESA). A 5-year review is based on the best scientific and commercial data available at the time of the review; therefore, we are requesting submission of any such information on staghorn coral, elkhorn coral, pillar coral, rough cactus coral, lobed star coral, mountainous star coral, and boulder star coral that has become available since their original listings as threatened species or the most recent status review for staghorn and elkhorn coral in 2014.

DATES: To allow us adequate time to conduct this review, we must receive your information no later than March 8, 2021.

However, we will continue to accept new information about any listed species at any time.

ADDRESSES: Submit your comments, identified by NOAA-NMFS-2020-0147, by either of the following methods:

• Electronic Submissions: Submit all electronic public comments via the Federal e-Rulemaking Portal.

1. Go to www.regulations.gov/document?D=NOAA-NMFS-2020-0147,

2. Click the “Comment Now!” icon, complete the required fields, and

3. Enter or attach your comments.

• Email: Submit written comments to alison.moulding@noaa.gov.

Instructions: We may not consider comments if they are sent by any other method, to any other address or individual, or received after the end of the specified period. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

FOR FURTHER INFORMATION CONTACT: Alison Moulding at the above email address or by phone at 727-551-5607.

SUPPLEMENTARY INFORMATION: On May 9, 2006, we listed elkhorn coral and staghorn coral as threatened under the ESA (71 FR 26852). On September 10, 2014, we listed lobed star coral, mountainous star coral, boulder star coral, rough cactus coral, and pillar coral as threatened and reaffirmed the status of elkhorn coral and staghorn coral as threatened (79 FR 53852). Section 4(c)(2)(A) of the ESA requires that we conduct a review of listed species at least once every 5 years. The ESA's implementing regulations at 50 CFR 424.21 require that we publish a notice in the Federal Register announcing those species currently under active review. On the basis of this review, under section 4(c)(2)(B), we determine whether these species should be delisted or reclassified from endangered to threatened or from threatened to endangered. As described in 50 CFR 424.11(e), the Secretary will delist a species if the Secretary finds that, after conducting a status review based on the best scientific and commercial data available: (1) The species is extinct; (2) the species does not meet the definition of an endangered species or threatened species; or (3) the listed entity does not meet the statutory definition of a species. Changes to the listing status of a species can only be made following publication of a proposed rule with an opportunity for public comment and our consideration of the comments before making a final determination to reclassify or delist the species.

Public Solicitation of New Information

To ensure that the 5-year review is complete and based on the best available scientific and commercial information, we are soliciting new information from the public, governmental agencies, Tribes, the scientific community, industry, environmental entities, and any other interested parties concerning the status of staghorn coral, elkhorn coral, pillar coral, rough cactus coral, lobed star coral, mountainous star coral, and boulder star coral.

The 5-year review considers the best scientific and commercial data and all new information that has become available since the listing determination or most recent status review. Categories of requested information include (A) species biology including, but not limited to, population trends, distribution, abundance, demographics, and genetics; (B) habitat conditions including, but not limited to, amount, distribution, and suitability; (C) conservation measures that have been implemented that benefit the species; (D) status and trends of threats; and (E) other new information, data, or corrections including, but not limited to, taxonomic or nomenclature changes and improved analytical methods.

If you wish to provide information for this 5-year review, you may submit your information and materials electronically at www.regulations.gov or via email (see ADDRESSES section). We request that all information be accompanied by supporting documentation such as maps, bibliographic references, or reprints of pertinent publications. We also would appreciate the submitter's name, address, and any association, institution, or business that the person represents; however, anonymous submissions will also be accepted.

(Authority: 16 U.S.C. 1531 et seq.)

Dated: January 4, 2021.
Angela Somma,
Chief, Endangered Species Division, Office of Protected Resources, National Marine Fisheries Service.

[FR Doc. 2021-00032 Filed 1-6-21; 8:45 am]

BILLING CODE 3510-22-P